FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—11/05/2007
20080136 | H.I.G. Capital Partners IV, L.P | Raytheon Company | Flight Options LLC, Newco.
20080150 | Saw Mill Capital Partners, L.P | Bessemer Securities LLC | AdMart Attractions, Inc., Business Stationery LLC, Graphics Systems, Inc., Identity Group, LLC, IDG, LLC, Redi-Tag Corporation, Scott Sign Systems, Inc., SigLet, Inc.
Transactions Granted Early Termination—11/06/2007
20080077 | SPO Partners II, L.P | Martin Marietta Materials, Inc | Martin Marietta Materials, Inc.
20080113 | Morgan Stanley | Royal Ahold | Tops Markets, LLC.
20080117 | SAP AG | Business Objects S.A | Business Objects S.A.
Transactions Granted Early Termination—11/07/2007
20080075 | Platinum Equity Capital Partners II, L.P | PPG Industries, Inc | PPG Industries, Inc.
Transactions Granted Early Termination—11/08/2007
20080081 | 2151000 Ontario Inc | Husky Injection Molding Systems Ltd | Husky Injection Molding Systems Ltd.
20080140 | Cognizant Technology Solutions Corporation | marketRx, Inc | marketRx, Inc.
20080141 | E.ON AG | NTR plc | Airtricity, Inc.
Transactions Granted Early Termination—11/09/2007
20080157 | WLR Recovery Fund IV, L.P | American Home Mortgage Investment Corporation | American Home Mortgage Corp., American Home Mortgage Servicing Inc.
20080170 | Partners Limited | Redding Management, Inc | Redding Management, Inc.
20080174 | Permira IV L.P.2 | Arysta Life ScienceCorporation | Arysta Life ScienceCorporation.
20080175 | USPF III Leveraged Feeder, L.P | Michigan Cogeneration Systems, Inc | Michigan Cogeneration Systems, Inc.
20080177 | Sheridan Production Partners I-B, L.P | Helios Energy Partners I L.P | Aethon I L.P.
20080179 | Dennis R. Washington | Washington Group International, Inc | Washington Group International, Inc.
20080182 | Mr. Fayez Sarofim | eHarmony.com | eHarmony.com.
Transactions Granted Early Termination—11/13/2007
20080180 | Willbros Group, Inc | Integrated Service Company, LLC | Integrated Service Company, LLC.
Transactions Granted Early Termination—11/14/2007
20080109 | Halkos Holdings, LLC | Olin Corporation | A.J. Oster Caribe, Inc., A.J. Oster Company, A.J. Oster Foils, Inc., A.J. Oster West, Inc., Bryan Metals, Inc., Chase Brass & Copper Company, Incorporated, Chase Industries, Inc., LTC Reserve Corp., Olin Corporation, Olin Fabricated Metal Products, Inc., Waterburg Rolling Mills, Inc.
20080135 | Nuance Communications, Inc | Thoma Cressey Fund VI, L.P | Viecore, Inc.
20080178 | Discovery Holding Company | HowStuffWorks, Inc | HowStuffWorks, Inc.
Transactions Granted Early Termination—11/15/2007
20071065 | Schering-Plough Corporation | Akzo Nobel N.V | Organon BioSciences N.V.
Transactions Granted Early Termination—11/19/2007
20080176 | Williams Partners L.P | The Williams Companies Inc | Wamsutter LLC.
20080183 | Cisco Systems, Inc | Navini Networks, Inc | Navini Networks, Inc.
20080189 | 2003 Riverside Capital Appreciation Fund, L.P | Mr. Timothy R. Buhl | Aerco International, Inc.
20080190 | 2003 Riverside Capital Appreciation Fund, L.P | Mr. Basem L. Hismeh | Aerco International, Inc.
20080119 | Darwin Deason | Affiliated Computer Services, Inc | Affiliated Computer Services, Inc.
20080201 | CHS Private Equity V L.P | Richard C. Morgan, Jr | ALC Licensing Group, LLC, ALC-Partner, Inc., American Aesthetic Equipment, LLC, American Laser Centers, LLC, AmeriPure, LLC.
20080203 | The Providence Service Corporation | Charterhouse Equity Partners IV, L.P | Charter LCI Corporation.
20080205 | Hellman & Friedman Capital Partners VI, L.P | Goodman Global, Inc | Goodman Global, Inc.
200801210 | ESCO Technologies Inc | The Frank C. Doble Wife's Trust | Doble Engineering Company.
20080211 | EnCana Corporation | Thomas S. Kaplan | Leor Energy (Amoruso) LLC, Leor Energy (Amoruso Ranch) Holdings LLC, Leor Energy (Brazos) LLC, Leor Energy (Houston) LLC, Leor Energy (Navasota Resources) LLC.
20080213 | The PNC Financial Services Group, Inc | Albridge Solutions, Inc | Albridge Solutions, Inc.
Transactions Granted Early Termination—11/20/2007
20080123 | Leeds Equity Partners IV, L.P | David Meek | Campus Management Corp.
20080144 | Carl C. Icahn | Motricity, Inc | Motricity, Inc.
20080196 | Linsalata Capital Partners Fund V, L.P | Lund International Holdings, Inc | Autotron Accessories, Inc., Belmor Products, Inc., Deflect-A-Shield Accessories, Inc., Lund International Holdings, Inc., Lund International, Inc.
20080204 | Transfield Services Limited | Michael Sullivan, Sr | Horizon National Commercial Services, LLC, Horizon National Contract Services, LLC, Horizon National Services, LLC, Horizon Western Contract Services, LLC.
20080206 | Brian C. Rogers | T. Rowe Price Group, Inc | T. Rowe Price Group, Inc.
20080214 | CSS Industries, Inc | C.R. Gibson, Inc | C.R. Gibson, Inc.
20080215 | Harron Sharing Partners, L.P | Boston Ventures Limited Partnership VI | Vista III Media, LLC.
20080218 | Vestar Capital Partners V, L.P | Radiation Therapy Services, Inc | Radiation Therapy Services, Inc.
20080232 | Genstar Capital Partners V, L.P | John Klaeb | Westline Corporation.
Transactions Granted Early Termination—11/21/2007
20080126 | AT&T Inc | Aloha Partners, L.P | Aloha Partners, L.P., HIWIRE, LLC.
20080128 | Stora Enso Oyj | NewPage Investments LLC | NewPage Group, Inc.
20080129 | NewPage Investments LLC | Stora Enso Oyj | Stora Enso North America Inc.
20080172 | EnergySouth, Inc | Theo B. Bean, Jr | Mississippi Hub, LLC.
20080194 | Symantec Corporation | Vontu, Inc | Vontu, Inc.
20080212 | HFA Holdings Limited | Sean G. McGould | Lighthouse Investment Partners, LLC.
20080225 | Iron Mountain Incorporated | Stratify, Inc | Stratify, Inc.
20080227 | HBK Offshore Fund Ltd | RTW, Inc | RTW, Inc.
Transactions Granted Early Termination—11/23/2007
20080234 | Gaz de France | SUEZ | SUEZ.
Transactions Granted Early Termination—11/27/2007
20080166 | David H. Murdock | Gene Haas | Inland Logistics 2, LLC.
20080167 | David H. Murdock | William J. Hendricksen and Patricia Hendricksen | Inland Logistics, LLC.
20080193 | The Clorox Company | HSBC Holdings plc | Burt's Bees, Inc.
20080209 | Electronic Data Systems Corporation | Saber Holdings, Inc | Saber Holdings, Inc.
20080220 | Canadian Pension Plan Investment Board | Puget Energy, Inc | Puget Energy, Inc.
20080221 | Dubai Holding LLC | Rhone Offshore Capital Partners II, L.P | Almatis Holdings 3 B.V.
20080237 | GS Maritime Holding LLC | TECO Energy, Inc | TECO Transport Corporation.
20080242 | Time Warner Inc | Jonathan Burton | TT Games Limited.
20080248 | AIF VI Euro Holdings L.P | The Marilyn Carlson nelson 1998 GST Family Trust | Celtic Pacific Holdings (UK) Limited, Golden Ocean Line Limited, Newco LLC, Regent Seven Seas Cruises, Inc., Regent Seven Seas Cruises UK Limited.
20080249 | AIF VI Euro Holdings L.P | The Barbara Carlson Gage 1998 GST Family Trust | Celtic Pacific Holdings (UK) Limited, Golden Ocean Line Limited, Newco LLC, Regent Seven Seas Cruises, Inc., Regent Seven Seas Cruises UK Limited.
20080025 | PODS Holding, Inc | PODS, Inc | PODS, Inc.
20080254 | Sumitomo Rubber Industries, Ltd | Quiksilver, Inc | Roger Cleveland Golf Company, Inc.
20080259 | Blue Cross and Blue Shield of Massachusetts | Blue Cross and Blue Shield of Florida, Inc | USAble Life.
20080260 | Blue Cross and Blue Shield of Massachusetts, Inc | Arkansas Blue Cross and Blue Shield | USAble Life.
20080275 | Sector Performance Fund, L.P | LaSalle Capital Group, L.P | Advanced H2O Holdings LLC.
Transactions Granted Early Termination—11/28/2007
20081838 | Barry O'Callaghan | Reed Elsevier NV | Achieve Data Solutions LLC, Classroom Connect Inc., Foundation Marine Animal Husbandry Inc., Greenwood Publishing Group Inc., Harcourt Inc., HRW Distributors Inc., Reed Elsevier UK Ltd., Steck-Vaughn Publishing LLC.
20080152 | The Doctors Company, an Interinsurance Exchange | SCPIE Holdings, Inc | SCPIE Holdings, Inc.
Transactions Granted Early Termination—11/29/2007
20080192 | Oak Hill Capital Partners III, L.P | Forgings International L.P | Forgings International L.P.
20080240 | Cooper Industries, Ltd | SurePower, Inc | SurePower, Inc.
20080241 | O. Bruton Smith | Robert P. Bahre | New Hampshire Speedway, Inc.
20080263 | Providence Equity Partners VI L.P | Donald W. Jones | J&B DS LLC, J&B Sales Corp., Jones and Bartlett Publishers Business Trust, Jones and Bartlett Publishers, Inc.
20080279 | Computer Sciences Corporation | First Consulting Group, Inc | First Consulting Group, Inc.
20080281 | Spherion Corporation | Charlesbank Equity Fund V, Limited Partnership | Intellimark Holdings, Inc.
Transactions Granted Early Termination—12/03/2007
20080278 | SAS Rue La Boetie | Societe Generale S.A | Fimat International Banque S.A.
20080280 | Societe Generale S.A | SAS Rue La Boetie | Calyon North America Holdings, Inc.
20080292 | ABX Air, Inc | Cargo Holdings International, Inc | Cargo Holdings International, Inc.
20080297 | Ruth's Chris Steak House, Inc | Cameron Mitchell Restaurants, LLC | Cameron Mitchell Restaurants, LLC
20080298 | Youngor Group Co. Ltd | Kellwood Company | Smart Apparel Group Limited, Xin Ma Apparel International Ltd.
20080301 | Mr. George David | United Technologies Corporation | United Technologies Corporation.
20080306 | Hewlett-Packard Company | TA IX L.P | EYP Mission Critical Facilities, Inc.
20080314 | Millennium Digital Media Holdings, L.L.C | Golden Tree Asset Management, LLC | James Cable, LLC.
20080315 | American Securities Partners IV, L.P | Silver Point Capital Offshore Fund, Ltd | FiberMark North America, Inc., FiberMark Red Bridge International Ltd.
20080318 | Bilfinger Berger Industrial Services AG | Churchill Equity and ESOP Capital Partners II, L.P | TSC Holding Company, LLC.
20080319 | International Business Machines Corporation | Cognos Incorporated | Cognos Incorporated.
20080331 | AT&T Inc | Ingenio, Inc | Ingenio, Inc.
Transactions Granted Early Termination—12/04/2007
20080187 | Honeywell International Inc | HKW Capital partners II, L.P | Maxon Corporation.
20080230 | Robert Price | Ford Motor Company | Automotive Componenets Holdings, LLC.
20080246 | CCC Steel GmbH & Co. KG | MAN AG | Ferrostaal Metals GmbH.
20080258 | Albert G. Lowenthal | Canadian Imperial Bank of Commerce | CIBC World Markets Corp.
20080291 | The Bear Stearns Companies Inc | Knight Holdco LLC | KN Cogeneration, Inc., KN Thermo Acquisition, Inc.
20080300 | KMG Chemicals, Inc | Air Products and Chemicals, Inc | Air Products and Chemicals, Inc.
20080312 | Iberdrola, S.A | Denham Commodity Partners Fund IV L.P | Freebird Assets, Inc., Freebird SHA, LLC.
Transactions Granted Early Termination—12/05/2007
20080184 | Nokia Inc. | NAVTEQ Corporation | NAVTEQ Corporation.
20080202 | Omniture, Inc. | Visual Sciences, Inc. | Visual Sciences, Inc.
20080290 | Nycomed S.C.A. SICAR | Daniel Glassman | Bradley Pharmaceuticals, Inc.
20080295 | CHRISTUS Health | McKenna Health System | McKenna Health System.
20080307 | Providence Equity Partners V L.P. | Donald L. Merrill | AMR/Arlington Medical Resources, Inc.
20080308 | Providence Equity Partners V L.P. | K. Paul Ferris | AMR/Arlington Medical Resources, Inc.
20080320 | Wicks Communications & Media Partners III, L.P. | The Gordian Group, Inc. ESOP and Trust | The Gordian Group, Inc.
Transactions Granted Early Termination—12/06/2007
20080256 | ON Semiconductor Corporation | Analog Devices, Inc. | Analog Devices, Inc.
20080271 | Matsushita Electric Industrial Co., Ltd | Littlejohn Fund II, L.P. | ULT Holdings, Inc.
Transactions Granted Early Termination—12/07/2007
20080329 | Macrovision Corporation | Yucaipa One-Stop Partners, L.P. | All Media Guide Holdings, Inc.
20080334 | Trust f/b/o Lee Bordes u/a FIVE o/t Will of Peter A. Bordes | Lincoln National Corporation | Lincoln Financial Media Company of North Carolina.
20080346 | Prudential Financial Inc. | Mitsubishi UFJ Financial Group, Inc. | Union Bank of California, N.A.
20080353 | The Nutting Company, Inc. | Nutting 1997 Trust | The Nutting Newspapers, Inc.
20080369 | Citadel Kensington Global Strategies Fund Ltd | E*TRADE Financial Corporation | E*TRADE Financial Corporation.
Transactions Granted Early Termination—12/10/2007
20080143 | Motricity, Inc. | InfoSpace, Inc. | InfoSpace, Inc.
20080265 | GSS Contract Services XXI, Inc. | Broadway Generating Company, LLC | Bosque Power Company, LLC, LSP Bosque Blocker II, Inc., LSP Bosque Blocker I, Inc.
20080283 | Hilltop Holdings Inc. | Downey Financial Corp | Downey Financial Corp.
20080342 | Fidelity Capital Operating Limited Partnership | HD Supply, Inc. | Cox Lumber Corp., Madison LLC, Park LLC, Williams Bros. Lumber Co., LLC.
Transactions Granted Early Termination—12/11/2007
20080282 | The Day & Zimmermann Group, Inc. | SOC-SMG, Inc. | SOC-SMG, Inc.
20080287 | Valve (RMG) LuxCo S.a.r.l | Gareth Y. Hudson | Mercury Instruments, Inc.
20080333 | Highland Crusader Fund II, Ltd | Solutia Inc. | Solutia Inc.
20080335 | Astellas Pharma Inc. | Agensys, Inc. | Agensys, Inc.
20080340 | Silver Lake Partners III, L.P. | Gerson Lehman Group, Inc. | Gerson Lehman Group, Inc.
20080348 | Nustar Energy, L.P. | Petroleos De Venezuela, S.A | Citgo Asphalt Refining Company.
20080356 | Fundacion MAPFRE | The Commerce Group, Inc. | The Commerce Group, Inc.
Transactions Granted Early Termination—12/12/2007
20080231 | Falcon Mezzanine Partners II | Roy K. Landgren | Sunrise Electric Supply, Inc.
20080349 | Genesis Energy, L.P. | Denbury Resources Inc. | Denbury Onshore L.L.C.
20080359 | Iconix Brand Group, Inc. | Phillip H. Knight | Exeter Brands Group LLC.
Transactions Granted Early Termination—12/13/2007
20080253 | Nokia Corporation | Atrica, Inc. | Atrica, Inc.
20080266 | Genstar Capital Partners V, L.P. | TravelCLICK Holdings, Inc. | TravelCLICK Holdings, Inc.
20080311 | GlaxoSmithKline plc | Reliant Pharmaceuticals, Inc. | Reliant Pharmaceuticals, Inc.
20080344 | Macquarie Group Limited | C. Gregory Evans, II | Universal Weather and Aviation, Inc.
20080370 | The Resolute Fund, L.P. | Haas TCM Inc. | Haas TCM Inc.
20080371 | The Resolute Fund II, L.P. | Haas TCM Inc. | Haas TCM Inc.
Transactions Granted Early Termination—12/14/2007
20080273 | Agilent Technologies, Inc. | Velocity11 | Velocity11.
20080289 | Catholic Healthcare Partners | Tennessee Baptist Convention | The Baptist Health System of East Tennessee, Inc.
20080364 | SPO Partners II, L.P. | Calpine Corporation | Calpine Corporation.
20080366 | Luminum Energy Partners QP, L.P. | Calpine Corporation | Calpine Corporation.
20080367 | LS Power Equity Partners, L.P. | Calpine Corporation | Calpine Corporation.
20080368 | San Francisco Partners II, L.P. | Calpine Corporation | Calpine Corporation.

FOR FURTHER INFORMATION CONTACT: Sandra M. Peay, Contact Representative or Renee Hallman, Contact Representative; Federal Trade Commission; Premerger Notification Office, Bureau of Competition, ROOM H-303, Washington, DC 20580, (202) 326-3100.

By Direction of the Commission.
Donald S. Clark,
Secretary.

[FR Doc. 07-6234 Filed 12-28-07; 8:45 am]

BILLING CODE 6750-01-M